DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2014. For purposes of this listing, long-term residents, as defined in section 877(e)(2), are treated as if they were citizens of the United States who lost citizenship.

Last name | First name | Middle name/initials
ABDULLA | ALYKHAN
ABU-KHAMSIN | AMMAR | RIYADH
ABUYOUNUS | MAYA | TARIQ
ADAMS | GAVIN | JOHN
ADANK | FLORIAN | ANDREA
AHLERS | KENNETH | HENRY
AIHOSHI | TERRI | LYNN
ALEXANDER | LEWIS | JOHN
ALEXANDER | LINDA | SAGE
ALFORD | LYNN | JOSEPHSON
ALFORD | ROSS | ANDREW
AL-HAIDER | MOHAMMAD | TARIK AHMAD
ALJAS | AILI
ALKHORAYEF | ABDULAZIZ | ABDULRAHMAN
ALKHORAYEF | ABDULLAH | ABDULRAHMAN
ALMAD | AHMAD | ALI
AL-RASHID | HANA | SHAIKHA
ALSAIGH | DALAL | JASIM
AL-SAUD | SAUD | MOHAMMED
ALSTINE | LINDEN | JEAN VAN
ALTUBE | EDUARDO | PATRICIO
ALTUBE | JUAN | IGNACIO
ALVARAEZ | MARIA | ADELAIDE
ANDERSON | DEBORAH | SUE
ANDERSON | PATRICIA | ANN
ANDREWS | TERENCE | STEVEN
ANDRIST | SUZANNE | SABINE
ANGEHRN | JOHN | CHARLES
ANTONIOU | JOHN
ARBESMAN | JUSTIN | GILAD
ARCHER | LAURIN | LAWTON
ARLOV | LAURA | MICHELLE
ARNDT | KATHLEEN | MARIAM
ASFOUR | ANDREW | ALLEN
ATRENS-MIKAN | CYNTHIA | A
AUBRY | SHARON | GAIL
AUFFMORDT | HELEN | JOSEFINA
BAENI | STEFAN | MARK
BAENZIGER | CHRISTOPHER | ALAN
BAHNI | KATHRYN | SUSAN
BAILEY-BOK | SHARON | LEE
BAILEY-CONNOR | ELIZABETH | LESLIE VICTORIA
BAISI | ANNETTE | ROSEANNE
BAKER | STAPHANIE | MELITTA
BAKER | TRENT | DAVID
BANNISTER | RONALD | AUSTIN
BARLIN | RANDAL | TODD
BARTA | LESLIE | ANN
BARTA-LEVESQUE | NANCY | BLANCHE
BASTIEN | VERONIQUE | ANNE
BATSCHELET | ISABEL | EVELYN
BAUER | FLORIAN | KARL
BAUMANN | URSINA | GABRIELA
BAUR | PIUS | BRUNO
BAUR | SUNITA
BAYER | ANDREW | DAVID
BAYERL | FRANCIS | JAMES
BAYLE | CHRISTIAN | PHILLIPPI
BAYRD | ERIC | SHAWN
BEALL | RHEBA | VICTORIA
BEAR | JEFFREY | ALAN
BEATON | BRUCE | ALAN
BECKER | TRACY | JAYNE
BEER | MARY | ANNA
BEER | PATRICK | ALEXANDER
BEGUIN | NELSON THEOPHRASTE | AUGUSTIN JACQUES
BEHN | CHRISTIAN | MANUEL
BEHNKE | KIMBERLY | ANNE MARIE
BEHRMANN | GLENN | JAY
BELL | GRAMHAM | RUSSELLL
BELL | JESSICA | JANON
BENAVIDES | LIVIA | MARIA ISABEL
BENDER | JOHNNY | KARL
BENNETT | LEA | CHRISTINE
BENNETT, JR | STEPHEN | SCOTT
BENTLER | TERESA | MARIE
BERG | ALEXANDER | ANTHONY DEMARCO
BERGE | GWENETH | KAY
BERMAN | ERICA | SUSANNE
BERNIER | MARC-ANDRE
BERSHAS | JOAN | ELAINE
BERTHOLD | KAI | LORENZ
BERTRAND | HERVE | EDOUARD
BERTSCHI | CAROL | MARLENE
BERTSCHI | MARA | CAROL
BETCHOV | DENYSE | P
BIDLAKE-SCHRODER | JENNIFER | ANNE COPE
BIERI | TANIA | LEILANI
BILLETER | LUKAS | ARNOLD
BILLINGSLEY | JOHN | MELVIN
BINNENDYK | HEATHER | ANN
BIRD | JORDAN | CAERL
BIRRER | MARTINA | BARBARA KELLER
BLAKE | RICK | NELSON
BLATTNER | EDWARD | WILHELM
BLOOM | SARAH | CAROLINE
BLUMEN | DAVID | PHILLIP
BLUMEN | DAVID | PHILLIP
BOEHM | KURT | MATTHEW
BOK | CURTIS
BOLLER | MARY | DANIEL
BOLLER | PAUL | JACOB
BORRIS | JOANNE | ELIZABETH
BOSWELL | PATRICIA | ANN
BOUCHARD | KAREN | KRISTEN
BOUDREAU | PAMELA | KAY
BOUILLET | MADELEINE
BOULDING | GRAHAM | ALEXANDER
BOURELY | ALFRED | PIERRE MARIE
BOURELY | GABRIELLE | MARIE MARGUERITE
BOURELY | JULIET | MARIE MADELEINE
BOURGEOIS | MONIQUE
BOUSQUET | LINDA
BOWEN | DACRE | JOHN
BOYCE | JOYCE | JEAN
BOYER | JASON | MICHAEL
BRACK | ANNE | IRENE
BRACKSTONE | MURIEL
BRAKAS | BENT | MARTIN
BRANCACCIO | MICHAEL
BREITKOPH | DIETER
BRENDT | ANNE | LARUE
BRENNING | MICHELE | CAROLYN
BRIENT | ASTRID | KORA
BRINNING | JENNA | LYNNE
BRISE | INGRID | GUNILLA
BROIDO | MARIANNE | ELIZABETH HELMS
BROOKS | RICHARD | MCKENNA
BROOKS-HILL | FREDERIK | DONALD
BROQUET | NATHAN | PHILIPPE LEON
BROWN | CAROL | LA PIERRE
BRUSSEE | MARIANNE
BRYDEN | PATRICIA | LORRAINE
BRYNER | MATTHIAS | DANIEL
BURCH | MARK | ALAN
BURKE | KELLY | JO
BURSCHEL | DIANE | LY
BYRNE | KENNETH
CALLAHAN | SEAN | MICHAEL
CAMPBELL | NEVA | ELEANOR
CAMPS | SUSAN | ELAINE
CANAVESE | MARGRET | MARIA ANNA
CARLSON | BRITT | INGRID
CARLSON | SCOTT | GERALD
CARNES | JON | RICHARD
CARON | CATHERINE | HAMI8LTON DUFF
CARTER | WATKINS | GLENMORE
CARTWRIGHT | ANNA | M
CASSEL | INGRID | HELGA
CASTRO IBARRA | NELLY | ALEYDA
CEDIL | DAVID | GEORGE
CERRI | MARGOT | LOUISE
CHABOT | LACY
CHABOT | XAVIER-ALESSANDRO | PATRICK
CHAFFART | DARIEN | AARON JIMMY
CHAFFART | DONOVAN | ROBERT GORDON
CHAFFEE | CHARLOTTE | ANN THIESSEN
CHAN | YING
CHANG | ARIANA
CHARI | ANISH | SHYAM
CHAROEN-RAJAPARK | SIRINDA
CHARTERS | FONDA | BURRIS
CHAU | EDWIN | DUENYI
CHEUNKARNDEE | VIPADA
CHOO | JOHANNA
CHRIST | DEREK | ALEXANDER
CHRISTIANSEN | SUZANNE | KATHLEEN
CHRISTIANSEN | WALLACE | PAUL
CHUNG | ALMA | MARIA
CHUNG | SOON | JA
CLAYTON | JUSTIN | DAVID
CLEMENT-KRIZ | LESLIE | E
CLOUGH | SUSAN | JOSEPHINE
COELHO | ROSALIE | REED RODRIGUES
COGSWELL | (STACY) VERA ANNASTACIA | DOBRINEN
COGSWELL | JOHN | ALDAGE
COHEN | JAY | CHARLES
COHEN | LEYNA | RANDIE
COHON | CRAIG | ALAN
COLUCCI | CONSTANCE | ANN
COOKE | MICHAEL | CHARLES
COOMBS | JEREMY | JAMES
COOPER | AMY | KATHLEEN
COOPER | DOROTHY | EILEEN YOUNG
COOPER | JENNIFER | ELIZABETH HELSING
CORBETT | CYNTHIA | ANNE
CORKUM | BRIAN | SCOTT
CORNELSEN | DORINDA | ZERBE
COST-MOWBRAY | SALLY
COTTER | LUCY | ELLEN
COW | DIANE
COWELL | KATHERINE | JORDAN
COWIE | MARK | ANDREW
CRAIG | DENNIS | EUGENE
CRAIG | STUART | THOMAS
CRAVEN | CHARLES | ALEXANDER
CROY | XENIA | MARIA A PRINZESSIN VON
CUDDY | JEAN | RUTH
CULLINANE | DEBRA | KAY
CURJEL | ULAM | JACOB
CYR | BERTIN | JOSEPH
DADSWELL | MARGARET | CATHERINE
DAGN | ELLEN | LOUISE
DANISCH | LEE | ALLEN
DANVERS | LINDA | SUSAN
DAOUD | MOHAMMAD
DAUM | DAVID | ALFRED
DAVIE | SONJA | CONRAD
DAVIS | SYLENA | LYS
DAVISON | DAN | PAUL
DAWSON | IAN | PAUL
DAWSON | JACQUELINE | KAY
DAY | JERRY | JOE
D'COSTA | VANESSA | JOANNA
DE CAEN | ALLAN | ROLAND BALLEINE
DE CONDE' | REBECCA | SARA
DE GAGNE | MICHELLE
DE GRAMMONT | ANTOINE | PIERRE
DE LENCQUESAING | AYMAR | GEORGES
DE LENCQUESAING | PAMELA | JANE
DE MATTEO | DALE | JEANNE
DE MATTEO | ROBERT | SAMUEL
DEGEN | THOMAS
DELARZE | STEPHANIE | MADISON FLORENCE
DELGADO | KARLA | ANGELICA
DEPOT | CLAUDE
DESMARAIS | IRENE
DESMARAIS | MICHELE
DESRUISSEAUX | ROBERT | DUDLEY
DESSA | LAURA | C
DEUTSCH | GIL | ZVI
DEY | MICHELLE
DHANARAJATA | SRIRAJATA
DIAMOND | BRENDAN | JORDAN
DIAMOND | JILL | ANDREA
DIAMOND | JODI | ARLENE
DIAS | GUILHERME | FAUS DA SILVA
DILLON | AMY | ELAINE
DINA | PAUL | ANSELMO
DION | JENNIFER
DIXON | JENNIFER | ANNE
DIXON | LAURA | CLAIRE
DIXON | MARY | ANN
DOBELI | NICOLE | P
DOERR | CAMPBELL | BRYCE
DOLF | HANS | MARTIN
DONAGHY | DAVID | FRANCIS
DONALDSON | JEAN | WALLACE
DONATH | VIVIAN | JULIA
DONOVAN | PEGGY | LEE
DOOLEY | MARTIN | DONOVAN
DOSTOINOV | ILIA
DOSTOINOV | TATIANA
DREW | MELANIE | JANE
DREYER | KAURENT | CHRISTOPHER
DREYFUSS | MICHAEL | MORRIS
DRUBEK | DOROTHY | DIANE
DRUMMOND | GEORGIA | ANN
DU CHENE | DAVID | WILLIAM
DU PASQUIER | DAPHNE | ALIX
DUCOR | LEANA | DARIANE EVELYN
DUPERRE | MARLENE
DURAN | ALBERTO | IVAN
DUREPOS | ANNE MARIE | LILY
DURIE | SHIRLEY | JOE
DURR | PATRICIA | BETH
DUSSAULT, JR | DONALD | HERBERT
DYMENT | STUART | ZACHARY
EARDLEY | JAMES | P
EGGERT | ROGER | ARVEN
EID | JEANNE | ANN
EKSERCIYAN | ANDRES | EDUARDO
ELKOSTALI | FATIMA
ELWICK | PENELOPE
ENGLER | FAITH | DORIS MARJORIE
ERLICH | MURRAY
ERNAELSTEEN | INGRID | GABRIELE MARIE
ESCHBACH | HELENE | FRANCES
ETTLIN | THOMAS | ROBERT
FABREGA | ROBERTO | IGNACIO DIAZ
FARRELL | KARIN | TRACY
FEIS-THOMERSON | TANIA | RENEE MATTIE
FELDMAN | JOSEPH | ALOYSIUS
FERGUSON | ELAINE | S
FEURER | PAUL | DAVID
FICK | CHRISTINE | ANNE
FILIPPOV | MARLOWE | TYSON
FINDING | NICHOLAS | FRANCOIS
FINE | IRWIN
FISCHER | HAROLD | JAMES
FISCHLI | ERNST | ULRICH
FISK | ALEXANDRE | REITZ
FITCH | CAMERON | DAVID
FLAMM | THOMAS
FLECHER | MARK | WENDELL
FLEMING MCKINNON | BONNIE
FLETCHER | MICHAEL | HENRY
FLETCHER | QUINN | RICHARD
FLOER | BRYCE | RONALD
FLUCKIGER | CHRISTINA | JANE
FOIDART | JOHN | FRANCOIS
FOK | CLARENCE | YATHUNG
FORAN | SUSAN | ELIZABETH
FRAMPTON | ALYSE | HARRIET
FRAMSTAD | NANCY | PATRICIA COCCIA
FRAPIN-BEAUGE | OLIVER
FRECH | PATRICIA
FREED | TIMOTHY | LYNN
FRIEDMAN | JOSHUA | JASON
FRIESEN | NELL
FRUEH | ERIKA
FUCHS | ROBIN
FUNSETH | LAURA | LEE
FUNT | KAREN | LORRAINE BRYCE
GAETANI | OLIMPIA
GAGLARDI | ANDREA | GAIL
GAGLARDI | ROBERT | THOMAS
GAGNON | MICHELINE | LISE
GALESKI | JOHN | RICHARD
GALESKI | THOMAS | JOSEPH
GARDIN | ANNEMARIE
GARLOCK | BARBARA | A
GARLOCK | GAYLE | NORMAN
GAROUFALIS | CHRISTOS-PANAYIOTIS
GARTNER | SEAN | L
GARTSHORE | DANIEL | ELLIOTT
GARTSHORE | SALLIE | GAY
GATTI | JOHN | ANTHONY
GAUTHIER | TREVLYN | ANN
GEARY | DEBBIE | LYNNE
GEATHERS | JULIA | ISABEL
GEHLHAAR-MATOSSIAN | HAGOP | FRITZ
GEIGER | ALAIN | NICHOLAS
GEIGER | STEVEN | PATRICK
GERBER | BEATRICE | JACQUELINE
GERBER | MARGARET | LOUISE
GETTMANN | JAMES | BRIAN
GIARDINI | ANNE | ELIZABETH
GIBSON | BRIAN | JAMES
GILLIGAN | NEIL | JAMES
GILLIS | DARLENE | ROSE
GILMAN | DENISE | ANN
GINNS | ANNE | BIRDSEY
GINNS | JAMES | HERBERT
GJALTEMA | ERICA | MICHELLE
GLOTMAN | LAURI | MICHELLE
GOOSMANN | HANNERL
GORDON-LENNOX | JEFFERSON | CHARLES
GORDON-LENNOX | JELTJE | AUKEMA
GOTTSCHALK | ROBIN | ERIK
GRANT | BARBARA | LYNN
GRAY | KATHERINE | ANN
GREEN | KELLY | LEANNE
GREGORICH | EDWARD | GERARD
GRIEDER | JENNIFER
GRINNELL | SASHA | ANN
GROSSI | PETER | FRANCIS ACHILLES
GROTHOFF | KRISTA | LYNNE
GUBBELS | MAUREEN | ELIZABETH
GUERREIRO | DAVID | PAULINO
GUGGENHEIM | ANDRE | JOSEPH
GUGGENHEIM | PHILIPPE
GUGGISBERG | MARTIN | ANDREAS
GUGLIOTTA | TEODORA | MARIA
GUILLEMOT | ARNAUD | CHARLES
GUSTAVUS | JEANNETTE | ANGELA
GUTHRIE | NATHAN | THOMPSON
GUTMANN-PAYNE | LAUREL | JANET
GUY | JOHN
GUY | LYNE
GUYOT | NICOLE | STEPHANIE
HA | KWI | RAM
HADIKUSUMO | JOSEPHINE | WAN-WEN
HAEFEN | HASSINGER
HAEGELSTEEN | MARIE | SOPHIE
HAESSEL | ROGER | ALAN
HAGEL | ASIA | CELESTE
HAGER | VERENA
HAHM | CLEMENT | TAEK
HALEEN | CATHERINE | MARIE
HAMEL | GHISLAINE
HAMEL | PAULINE
HAMEL | PIERRETTE
HAMEL | RAYMOND
HAMKA | SHARON | DESIREE
HANNUM | COREY | EDWARD
HANSEN | LINDA | GLADYS
HANTSON | JENNIFER | JEAN
HARGREAVES | ANN-CAROL
HARMS | ASHLEY | JEAN
HARRIS | DAVID | STUART
HARRIS | LISA | MICHELLE
HARRIS | SHARON | YETTA
HARTIGAN | MICHELE | SUSAN
HASLER | DANIEL | ELIAS
HAUERT | LISA | GINETTE IRENE
HAUERT | STEPHANIE-JOHANNA | HEIDE
HAUSER | JOHANNES | MAXIMILIAN
HAUSSER | MELISSA | MARIA HARRIET CHLOE
HAVERHALS | ARTHUR | GENE
HAWKINS | KENT | DAVIS
HEADINGTON | MARJORY | MAY
HEALEY | SHARON | M
HEALY | SHEILA | CAROLINE
HEATH | DANIEL | FRANK
HEEL | DESIREE
HEIDRI CH | CHRISTOPHER
HEIDRICH | TIANA
HEINRICH | ANDREA | ROSE
HEINRICHS | THADDEUS | GLEN
HEMMINGS | IKE | CLIFTON
HENDEL | MARTIN | ALBERT
HENDERSON | GRAEME | ALLAN
HERLIHY | EILEEN
HERRMANN | BLAINE | EDWARD
HERVE | MICHEL | EMILE AUGUSTE
HERZBERG | GENE | RUSSELL
HERZBERG | KAREN | ELIZABETH
HESS | SHANE | EDMOND
HESSER | DIANA | GILLIAN
HESSER | REBECCA | XIMENA
HETHERINGTON | CHILDS | PRATT
HETLAND | TORGER
HEWLETT | JENNY | M
HEYMANS | CECILE | MARIE
HILDEBRAND | ROBERT | JORDAN
HILL | ANNE-LOUISE
HILL | THOMAS | PHILIP
HILL | WILLIAM
HINRICHS | AMANDA | GESINE
HINTZ | JUSTIN | TODD
HIRT | JAMES | ALAN
HOBBS | DAVID | ARTHUR
HOCHSTEIN | STEPHAN | WILLIAM
HOLLBACH | ANDREW | JOHN
HOLLIS | JASON | FORREST
HOLLIS | LORINDA | AMARIS GOMEZ
HONEGGER | YVONNE | MARIANNE
HORNBURG | WILLIAM | MICHAEL
HORSKY | GIL | MOR
HORVATH | GAIL | ANN
HOWARD | LAURIE | ANN
HOWELL | PATRICIA | ANNE
HOWLAND | BORDEN | EVERETT
HRYHORIW | HEATHER | MARIE
HUBER | ASTRID | BARBARA
HUBER | GEORGE
HUDSON | TRACEY | GEORGIA
HUDSON III | JULIAN | ROSS
HUENEMANN | RALPH | WILLIAM
HUGUNIN | NANCY | ANN
HULL | RALPH | BORDEAUX
HULL III | TREAT | CLARK
HUMPHREY | SARAH | FRANCES
HUNNINGHAUS | RYAN | KARL
HUNSICKER | MONROE | MURPHY
HUNT | MARC | ANDREAS
IRANI | KAIZAD | BAHRAM
IRVIN | REBECCA | L
IRVING | TRENA | NADEAN
ISELIN | NICOLAS | FREDERIC EDOUARD
ISSLER | NINA
JACOB | CHARITY
JACOB | HUGH | ROBERTS
JACOB | RALPH | HENRY
JACOBSON | JAMES | DONAVON
JACOBSON | ROGER | SAMUEL
JAFFER | FATEMA
JANSSON | LARS | CRISPIN
JARMAIN | CATHERINE | CARROLL
JASPER | DAVID | PAUL
JENKINS | STEPHEN | ARTHUR
JERKOVIC | ANGELO | MILAN
JERNIGAN | MARY | ANN
JESKE | JANET | DIANE
JOE | DANIEL
JOHNSON | ELAINE | MARIE
JOHNSON | ESTHER | ALYSSA
JOHNSON | LYNNE | ELLEN
JOHNSON | TANJA | EDELTRAUD
JOHNSON-MADHUIZEN | WINIFRED | ADA
JOLLIET | AUDREY | CHARLOTTE
JOLLIET | ERICA | RUTH
JOLLIFF | DAVID | MICHAEL
JONES | PERRY | GABRIELE
JUREK | SHELLY | ALISA
KAGANO | STEPHEN | BECKER
KALMAN | KAREN
KALMS | JASMINE | HELEN
KAMEL | KARIM | CULVER
KANIA | CALVIN | EMIL
KAPP | RICHARD | WARD
KAPPELER | THEODORE | HERMAN
KARASCH | BETTY | EMMA
KASTNER | PAUL | MICHAEL
KATZ | DANIEL | ROSS
KAUFMAN | JUDITH | ANNE
KAWAI | HIROYO
KEE | GORDON
KELLER | MARKUS | CHRISTIAN
KENDRICK-KOCH | AINSLEY | JAY
KENNEDY | ZACHERY | JAMES
KEOWN | ADA | RUTH
KESS | CATHLEEN | ANN
KEYSER | RONALD | GEORGE
KHALTE | DEBORAH | SOPHIA
KIERNAN | LISA | JANE
KIMMEL | SHEILA | ANNE
KINSELLA | ALEXANDER | SCOTT
KIRSTEUER | ERIKA
KLAINGUTI | GIAN | ANDRI
KLASSEN | ROSE | MARIE
KLEIN | BENJAMIN | RALPH
KLIMAN | ESTELLE
KLIPPERT | GEORGE | BRUCE
KLOOSTRA | DIANA | ELAINE
KNIGHT | RONALD | ERIC
KNOCHENMUSS | RICHARD | DONALD
KNUDSLIEN | GLEN | MARVIN
KOCH | WILLIAM | JAY
KOEHN | MARY | ELIZABETH
KOERNER | PATRICIA | MARIA
KOLB | ROGER | HERBERT
KOTWAL | TRUUS
KOVAR | JASON | DANIEL
KRAENZLIN | ELLEN
KREISBERG-ULRICH | PAULA
KREMER | PHILLIP | ALCUIN
KRSVETSKY | SHARON | ESTHER
KUEFFER | MARGUERITE
KUEFFER | MAX
KUMAR | AALOK
KUMPE | CAROL | ANN
KUONEN | DENISE | THERESA
LA ROSA | NICODEMO
LAMOUREUX | JEAN | CLAUDE
LANDOLI | THOMAS | DOMENIC TROY
LAPIDUS | JONATHAN | DANIEL
LaPLACE | MARCIA | ANNE
LARCADE | DANTE | ALEXANDER
LAUTERBURG | MERET | ANN
LEA | AIYANA
LEE | ANGEL | R-LI
LEE | BRIAN
LEE | HAROLD | EDWARD
LEE | JASON
LEE | MARK
LEE | PATRICIA | PEI-CHI
LEE | RUSSELL | WALTER
LEE | TARA | LYNN
LEGROS | VERONIQUE | ANNE JEANNE
LEHR | LINDA | NELL
LEHTINEN-WALDVOGEL | BARBARA | RAFAELA
LELLA | ELISABETH | COLE
LELLA | JOSEPH | WILLIAM
LEMUS-KLAINGUTI | ANNA | BARBARA
LENNON | RUTH | ELAINE
LEONARD | GARY | CHARLES
LEVINE | ALAN | STEVEN
LIM | AUDREY | SHAO-PENG
LIM | CORINNE | XIAN LI
LIN | PAUL | PO-HSUN
LINDELL | JULIE | ANN
LINDSAY | ERIN | MICHELLE
LIPOVSKY | SYDNEY | SONIA
LIPS | CAROLINE
LISKOWICH | TREVOR | STEVEN
LISTON | FIONA | ANNE
LITTLEJOHN | SCOTT | VERNON
LIVINGSTON | KAREN
LODHI | MASOOD | AHMED KHAN
LUCAS | JUSTIN | PAUL
LUCAS | LANE | ALLAN
LUI | BENJAMIN | LIANG JUN
LUKES | BRYCE | KENT
LUKES | MARGO | LYNNE
LUM | FOO | HONG
LUM | SHU-TUAN | CHEN
LUMSDEN | MARTHA | CHRISTINE
LUTICK | GREGORY | JAMES
LYNCH-STAUNTON | ELIZABETH | ANN
LYSECKI | MARY | ANNE
MAAS | KATHERINE | JOAN
MAC MILLIAN | MARY | FLORA
MACCULLOCH | PATRICIA | WRIGHT
MACH | ISABELLE | CELINE
MACINTOSH | JACKIE | BELDEN
MACKENZIE | DIANE | MARIE
MADRO | ERIN | KEELY
MAFFIN | JUNE | SHIRLEY
MAGHRABI | DHIAA
MAGUGLANI | LISA | MARIE
MAHVI | ANASTASIA | JINOUS
MAKOUTZ | DAVID | ALBERT
MALAGON | JAIME
MALEK | JAMES
MAN | ALARIC | CHAI CHEUNG
MANCINI | DAVID | JUSTIN ANDREW
MANEFIELD | SEAN
MANGEL | JOY | ELISE
MAR | LORIS | WAN CHEE
MARANTZ | DAVID | ROBERT
MARCOUR | ALAN
MARTI-GREUB | PATRICIA | JANE
MARTIN | BETTE | JEAN
MARTIN | CHRISTOPHER | DANIEL
MARTIN | JOLINE | MARIE
MARTIN | JONATHAN | DOUGLAS
MARTIN | SARAH | BETH
MASEROW | BEVERLEY | LYNNE
MATHER | NEIL | THOMAS
MATTEI | ALAIN
MATTISON | LARA | RACHEL
MATTSON | PHILIP | EDWARD
MAURER | PANSY | CHRISTINA
MAXWELL | NANCY | MARIE
MAYER | DEBORAH | MATTHEWS
MAYER | ERICA | CLAIRE
MAYER | LUCAS | HASN MATTHEW
MC ELHINEY | JOHN | STUART
MC KENNA | MATTHEW | THOMAS
MCANDREW | YVONNE | LYNN
MCCORMICK | CHERYL | ANN
MCCUSICK | ALICE | HOPE
MCDONALD | JUDITH | AHERN
MCGOLDRICK | CLAUDIA | ANNABELLA
MCKELLAR | NANCY | LYN
MCKENNA | CATHERINE | MARY
MCKENZIE | JENNIFER | INGRID
MCKINNON | MICHELLE
MCKUSICK | KARL | WAYNE
MCQUARRIE | BRIGITTE
MEIER | HENRY
MEIER | MICHAEL
MEIRAZ | TALI
MERK | LEOPOLD | GEORG MANRICO
MERK | VICTORIA | BEATRICE HEIDI
MERRIMAN | MARTA | TAMARA ANDREA
MERSON | JANICE | CEE
MESTELMAN | BRYAN | PAUL
METZNER | CAROLYN | MARY
MEYER | STEPHEN | J
MEYER | TERESA | LOUISE HOYE
MEZZINA | COSMO
MIDDLETON | CHRISTINE-MARIE
MILGROM | CHARLES | EDWARD
MILLS | DAVID | ALEXANDER SHAW
MIOCEVICH | CHRISTINE | AUDRA
MITCHELL | BARRETT | REED
MITCHENER | DOMINIQUE | MANUELA
MOCKLI-RUTZ | BETTINA | URSULA
MONA | PIERRE | ANDRE
MONAHAN | KEVIN | ROBERT
MOORE | CARA | MARIA
MOORE | MEREDITH | ANNE
MORAES | FERNANDO | TASSINARI
MORAES | VERA | REGINA
MORF | CATHERINE | ELISABETH
MORF | STEFAN | ANDREAS
MORIARITY | MICHAEL | EDWARD
MOROZ | PATRICIA | ANN
MORRISON | KAREN | ALISE
MORRY | MARIAN | MICHELE
MOUKARZEL | ZINA | SAKKA
MUELLER | WILHELM
MUIZNIEKS | NILS | RAYMOND
MUKERJI | RAJIV
MUNDEN | PATRICIA | ANNE
MUNOZ | FELIPE
MURISON | KATHLEEN | MARIE
MURRAY | GLORIA | JAROSLAWA
MURRAY | SUSAN | JEAN
MYLYMOK | WILLIAM | JAMES
NAEF | FIONA | CAROLINE
NAPARSTEK | ALICE
NASSER | ISSA | PATRICK
NAVON | JUDY | CLARE
NEWELL | SARAH | ROSE
NIARCHOS | INES | SOPHIA
NOCETI | ALESSANDRO | JOHN EUGENIO
NOONE | THOMAS | JOHN
NORBJERG | NATASHA | KAMMA
NORRAD | RALPH | ALDEN
OH | LILLIAN
OLIVA | PETER | SAMUEL
OLIVIER-STERN | SUZANNA
OLSSON | ERIK | OLOF
OUELLET | CAROLYN | RENEE
PACHLATKO | MARKUS | DAVID
PADA | CAROLYN | ANN
PALMER | ALBERT | HENRY
PAMER | JASON | EDWARD
PAPAGEORGIS | JANE | ELEANOR
PAPINEAU | KRISTINE
PARIS | HELENE
PARISOT DE LA VALETTE | PIERRE
PARK | MITCHELL | JAMES
PARKER | DOROTHY | ELIZABETH
PARSONS | CHRISTINA | FRANCES AQUINO
PAYTON | STEVEN | LEE
PEARSON | MARK | JONATHON
PEGLAR | ANNE | ELIZABETH
PENN | PHILIP | MURRAY
PEPIN | BERNARD | ANTHONY
PEPIN | SUSAN | MOORE
PEROFF | ELENKA | ILIA
PEROFF | LOU-ANNE
PETER | CLARENCE | GEORGE
PETER | CLAUDINE | ISABELLE
PETERSON | BENJAMIN | ISAAC
PETERSON | MARY | HELENA
PFISTER | ANITA | MARIA
PHELAN | ANGELA | JEAN
PHILLIPS | PATRICIA | MICHELLE
PINK | DOMITILLA | AMY ANN
POHL | JAN | CENEK VACLAV
POLLARD | DOUGLAS | EUGENE
POLTERA | MARCO
PORCHET | THIERRY
POULSEN | ERIK | MOGENS
POWELL | DAVID | JACKSON
PRATTE | MARY | ELLEN
PRATT-JOHNSON | BRIAN | WARREN
PRAXMARER | MICHAEL | ERIC
PRENTICE | JUNE | ELIZABETH
PRETRE | VALERIE | SIMONE
PREUSS | BERNADETTE | MARIA
QAQISH | RAYED | JERIES
QUINN | MICHAEL | PAUL
RAAB | HELGA
RAMOS | GEORGIA | MADELIENE
RAMOS | PETER | LOUIS
RAYNOLDS | JEFFREY
REAKA | DAVID | DAWSON
REED | THOMAS | JOSEPH
REES | BRENDA | KAY
REHMEIER | GARY | LEE
REHMEIER | TERRI | LYNN
REIBETANZ | SUSAN | MARGARET
REIKEN | TAMAR | RUTH
REMONDINO | DOMINIK
RENFREY | GEORGE | STEPHEN DALE
REUT | EMIL | JOHN
REVERDIN | THIERRY | STEPHANE
RICHARDSON | CLAIRE | BETH
RIDLER | SAMANTHA | ANNE
RITACCO | DAVID | MICHAEL
RITLAND | KERMIT | MARK
RITTER | HANS | PETER
RIVA | FRANCA | AGOSTINA
RIVADENEIRA | EDUARDO | XAVIER
ROBBINS | TOBIN | STANLEY
ROBERTSON | BENJAMIN | GEORGE
ROBSON | CAROLIN | JEANETTE
ROHLFS | OLIVER | KEITH
ROMSES | KATHERINE | LYNNE
ROOSEN-RUNGE | ANNA | PHILIPPI
ROOSEN-RUNGE | ELISABETH | FRANCESCA
ROSSINI | CHRISTINE | LEIGH
ROSSINI | PAOLA | CATERINA
ROTHE | JILL | KIMBERLY
ROUX | NATHALIE | DENISE
ROWLAND | STEVEN | T
RUBIN | BRUCE | LAWRENCE
RUDLINGER | ANDREW | TOMAS
RUEDEN | JANINA | MARIA VON
RUEGG | FABIA | ELISA
RUFFO | MASSIMO | GIOVANNI
RUMPF | ANITA | REGULA
RUNG-HOCH | NINA | BEATRICE
RUTSCHE | MARY | CELINE
RUTTIMANN | ROY | PWICHDJPLUMSKE
RYDER | DEBRA | SHARI
SAITO | RIKAKO | CAROLA
SALES | CHARLES | ALBERT
SALVAJ | MARYLE
SAMHOUN | AMER
SANFORD | HOLLY
SANTAMBROGIO | MICHELE | LORENZO
SARGINSON | EDWARD | GEORGE
SARVINIS | ELIZABETH | ANNE
SAULNIER | JENNY | LEE
SAUPE | KARIN | ANN
SCHAD | PATRICE | ANN
SCHAFFER | JAMES | ALFRED
SCHAFFER | JOHN | PERRY
SCHAUDE | NICK
SCHENKEL | CHRISTIAN | ROGER
SCHEUNER | MARC | ALBERT
SCHINDLER | KATHLEEN | DAWN
SCHLAEPFER-KARST | KARLA | MARIE
SCHLEICH | KRISTIN | ANN
SCHMIDT | JAY | JAMES
SCHMIDT-RADDE | RACHEL | H
SCHMOCKER | MARK | EMIL
SCHNEIDER | JEAN | ELLIS
SCHOLL | LAURENCE | CLAIRE
SCHORNER | ANNA | CHARLOTTE
SCHRAG | KENNETH | RANDALL
SCHRIEDER | JONATHAN | BENSON
SCHUCK | THOMAS | ANTHONY
SCHUH | MICHAEL
SCHUTTE | PATRICK
SCHWABE | NICHOLAS | SASCHA
SCHWEIGHAUSER | PAUL | STEPHEN
SCHWENK | ROBERT | AUSTIN
SCOTT | DONALD | GORDON
SEIF | ABDULATIF | ALI
SEILER | JESSICA | IRENE
SEMET | VALENTINE | JEANNE
SESSAMEN | RONALD | ALAN
SHAKOTKO | BARBARA | LEE
SHEEHY | GREGG | WILLIS
SHEEN | CAROLYN | ANNE
SHERIDAN | MICHAEL | DAVID
SHEROHMAN | DAVID | PATRICK
SHIN | SHARON | L
SHIRAKI | WENDY
SHIVAK | PATRICIA | GAIL
SHORT | BEVERLY | JEAN
SHOU | HELEN
SHOULDICE | MARTHA | JANE
SILBERSTEIN | MIRIAM
SIMOND | NATHALIE
SINGER | BARRY
SINGER | JAY | NEIL
SIRKA | ANN | SLUSARCZUK
SISON | GUALBERTO | RAMIREZ
SLEMBEK | INGRID | MARIANNE
SMEGAL | JONATHAN | EDWARD
SMID | SARAH | ANN
SMITH | ERIK | MELVIN
SMITH | LOUISE | WEBSTER
SMITH | TED
SMITH III | HAMILTON | DEAN
SMOLSKI | DANIEL
SNEATH | ARDYS | DAWN
SOLIS | CECILIA
SOMMER | ADAM | LAWRENCE
SOMMER | KEVIN | JULIAN
SONG | MICHAEL | JOON HO
SPARKES | KAREN | SUE
SPATES | BEATRICE | MADELINE
SPENCE | CATHERINE | ANNE
SPENCE | EVELYN | JULIA
SPENCER | ZANE | THOMAS
SPIEGLER | ERICA | MYRA DUBACH
SPIEGLER | MARK | ALAN
SPIELDIENER | KEVIN | DANIEL
SPIELMAN | MARK | DAVID
SPINOSA | ROBERTA
SRIVASTAVA | JANE | JONAS
ST PETER | MARY | CHRISTINE
ST. PIERRE | TIMOTHY | LUKE GORDON
STABILE | THOMAS | CARL
STALLWORTHY | ROBERT | WILSON
STANDEN | KARYN | ALEXIA
STANSFIELD-MEIRE | AVIS | DELIA
STANTON | ANTHONY | CHARLES
STARKS | RICHARD | LEE
STAUBI | WILLIAM | HERMAN WALTER
STAUFFENBERG | WALTRAUD | INGEBORG SCHENK VON
STEINHAUER | MORTEN | BJERKAN
STELLA | JOSEPH | EMANUELS
STIEBEL | DAVID | REUBEN
STIHL | LUISA | ANDREA
STOECKER | ALLISON | ELIZABETH JEFFREY
STOLIN | CHRISTINA
STOLL | KATHARINA | MARIA
STOREY | REBECCA
STOREY | REBECCA
STRACHAN | KATHLEEN | THERESA
STRANSKY | BERND
STRUPP | FABIENNE | KATHARINA
STUDER | CATHERINE | POLLY
SUESS | ANDREW | MYLES
SUREAU | JULES
SUTTON | JOY | DIANE
SYMONS | WILLIAM | L
TABARI | AHMAD | HISHAM
TAEGTMEYER | ANNE | BARBARA
TAKASHIBA | KRISTIN | MICHELE
TANNER | SARA
TAUBLAENDER | MARGARETE | GISELLA
TAYLOR | HUGH | ROSS
TAYLOR | JAMES | HILTON
TAYLOR | JOSEPH | ARTHUR HALL
TAYLOR | VICKI | LYNN
TEEUWISSEN | ESTHER | SUZANNE
TEMPLE | WALLEY | JOHN
TEO | CHRISTOPHER | DANIEL CHEE QIN
TER STAL | ELAINE
TER STAL | MARK | EVAN
THALER | BARBARA | ANN WELTER
THIBAULT | MARILYN | JEAN
THOMAS | SANDRA | JEAN
THOMET | CYNTHIA | MAGDALENA
THOMPKINS | ANTHONY
THOMPSON | ESTHER | RUTH
THOMPSON | JENNY | MUNDRICK
THOMPSON | RODDERICK | ALEXANDER IRVINE
THONGTHAI | WANTANA
TIERNEY | JOHN | MICHAEL
TIU | KRYSTLE | ANN LEE
TOEPFER | BARBARA | ISABELLE
TOUCH | SAMBANG
TRAINOR | THOMAS | JOSEPH
TRALAND | ANDOR
TREACY | SHARON | ANN
TREDWELL | ALLISON | LEE MAY-LING
TRITTON | JEREMY | ERNEST
TROTTET | BERNARD | ALAIN
TRUDEL | MICHAEL | ANTHONY
TSCHANEN | SUSAN
TURNER | TINA
TYLER | ROYALL
TYLER | SUSAN | CATHERINE
TYPALDOS | ARISTIDES | GABRIEL
UBRIG | GUSTAVO | MIOTTI
ULRICH | CARL | EBERHARD
URBSCHEIT | SYLVIA | ANDREA
VACHON | CAROLINE
VALINE | ROBERT | JOHN
VAN GAALEN | ANTHONY | DIEDERIK
VANDERSCHAAF | MARY | ELIZABTH
VANSELOW | BIANCA
VANSELOW | VANESSA
VAN'T LAND | SAMANTHA | ELAINE
VARTANY | HAIK | ALAIN
VEJARANO | CARLOS | CASSINA
VERDUYN | BENJAMIN | STEWART
VERMEULEN | STEPHEN | OWEN
VON FABER-CASTELL | KATHARINA | ELIZABETH
VON HAMMERSTEIN | STEPHAN | W P
VON ROENNE | NICOLA | ANDREA FREIFAU
VON RUEDEN | DANIEL
VOSS | MICHAEL | LEON
VOTTERO | CHRISTINE | CLAIR
WACHTEL | DANIEL | CHARLES
WAGGONER | MARY | IOLA
WAGNER | TOMAS | CARL
WALCHLI | JURG
WALDVOGEL | EDWIN
WALKER-CRAWFORD | DAVID | NOAH
WALTERS | BRET | DAVID
WANG | JAMES
WANG | MAY | LEE
WARREN | MARGART | IRENE
WAWRYKOW | REBECCA | COLLEEN
WEAVER | JOEL | HUBERT
WEBB | JENNIFER | ANN
WEINER | KEVIN
WEINSTEIN | MATTHEW | BRYAN
WEISMAN | STANLEY | JOEL
WEISS | ROSE | BERTHA SEIDEL
WELLARD | VANESSA | VERONIQUE
WENNING | SEBASTIAN
WERDER | TERRI | ANN
WERK | PAULA | ANN
WETZEL | KURT | WINSTON
WHITTY | PATRICK | FINTAN
WICK | CHRISTINE | BARBARA
WICKI | URS | WALTER
WICKLAND | KARINA | SHANI
WIEBE | SARAH | ANN
WILE | HILLARY
WILLARD | NEDD
WILLARD | SALLY | F
WILLIAMS | FRANKIE | SHARON
WILLIAMS JR | ROBERT | N
WILSON | PATRICIA | ANN
WITT | DONALD | MICHAEL
WOELFER | ELSBETH
WOLFROM | MARDELL | LAVERNA
WOOD | JONATHAN | BARRIE
WOSK | ARIEL | SOLOMON
WRIGHT | RACHEL
WRIGHT | WILLIAM | JOHN
WU | CYNTHIA
WU | JOHN | CHUNG-HAN
WU | PAO | HUI
WU | YU-CHIN
YEATMAN | NORMA | JANE
YETTER | CRAIG | DOUGLAS
YI | YOON | JEONG
YOUNES | SANDRA | SACHSENHEIMER
YUEN | EMILY | SHI-YA
YUERS | LARRY | DAVID
ZACHARIAS | JANET | ANN
ZACHARIAS | THERESA | MARIE
ZARETSKY | DEREK
ZEENDER-JENKINS | DENISE | YVONNE
ZEIER | ALFRED | JOSEPH
ZEIER | MARC | JOSEPH
ZEIER | RITA | ELIZABETH
ZEIER | RONALD | EDGAR
ZEIGER | JEANNETTE | ANNE
ZENGER | RUTH | FENTON
ZERBE | RORY | ALLEN
ZOIA | JENNIFER | ELIZABETH
ZUERCHER | KLARA | GRETE

Dated: April 23, 2014.
Maureen Manieri,
Manager Team 103, Examinations Operations—Philadelphia Compliance Services.

[FR Doc. 2014-10139 Filed 5-1-14; 8:45 am]

BILLING CODE 4830-01-P